DEPARTMENT OF ENERGY

Federal Energy Regulatory Commission

Notice of Application for Non-Project Use of Project Lands and Soliciting Comments, Motions To Intervene, and Protests

February 5, 2007.

Take notice that the following application has been filed with the Commission and is available for public inspection:

a. Application Type: Non-project use of project lands and waters.

b. Project No. 487-063.

c. Date Filed: January 19, 2007.

d. Applicant: PPL Holtwood, LLC.

e. Name of Project: Lake Wallenpaupack Hydroelectric Project.

f. Location: The project is located within the Delaware River Basin on Wallenpaupack Creek, and the Lackawaxen River in Pike and Wayne Counties, Pennsylvania. The project does not occupy any Federal or tribal lands.

g. Filed Pursuant to: Federal Power Act 16 U.S.C. 791(a)-825(r).

h. Applicant Contact: Mr. Robert G. Grassi, Esq., PPL Holtwood, LLC, Two North Ninth Street, Allentown, PA 18101, (610) 774-2907.

i. FERC Contact: Jade Alvey, jade.alvey@ferc.gov, 202-502-6864.

j. Deadline for filing comments and or motions: March 5, 2007.

All documents (original and eight copies) should be filed with Ms. Magalie R. Salas, Secretary, Federal Energy Regulatory Commission, 888 First Street, NE., Washington, DC 20426. Comments, protests, and interventions may be filed electronically via the Internet in lieu of paper. See, 18 CFR 385.2001(a)(1)(iii) and the instructions on the Commission's Web site under the “e-Filing” link. Please reference “Lake Wallenpaupack, FERC Project No. 487-063” on any comments or motions filed.

k. Description of Project: PPL Holtwood, LLC requests Commission approval to permit Palmyra Township to use and occupy certain project lands for construction and operation of a visitor center. The center will provide the public with recreational information and be operated by the Hawley Lake Wallenpaupack Chamber of Commerce and the Pocono Mountain Vacation Bureau.

l. Locations of the Application: This filing is available for review at the Commission in the Public Reference Room or may be viewed on the Commission's Web site at http://www.ferc.gov using the “E-library” link. Enter the docket number excluding the last three digits in the docket number field to access the document. For assistance, please contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street NE., Washington, DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E7-2272 Filed 2-9-07; 8:45 am]

BILLING CODE 6717-01-P